POSTAL SERVICE

Temporary Emergency Committee of the Board of Governors; Sunshine Act Meeting

DATES AND TIMES: Wednesday, March 30, 2016, at 10:00 a.m.

PLACE: via Teleconference.

STATUS: Committee Changes the Date and Time of its meeting scheduled for March 21, 2016: On March 17, 2016, the Temporary Emergency Committee of the Board of Governors of the United States Postal Service agreed unanimously to change the date of the meeting previously scheduled for March 21, 2016, via teleconference, to March 30, 2016, and to begin its closed meeting session at 10:00 a.m., rather than the previously announced time of 4:00 p.m.

MATTERS TO BE CONSIDERED:

Wednesday, March 30, 2016, at 10:00 a.m.

1. Strategic Issues.

2. Financial Matters.

3. Pricing/Product Development Matters.

4. Personnel Matters and Compensation Issues.

5. Executive Session—Discussion of prior agenda items and Board governance.

GENERAL COUNSEL CERTIFICATION: The General Counsel of the United States Postal Service has certified that the meeting may be closed under the Government in the Sunshine Act.

CONTACT PERSON FOR INFORMATION: Requests for information about the meeting should be addressed to the Secretary of the Board, Julie S. Moore, at 202-268-4800.

Julie S. Moore.
Secretary, Board of Governors.

[FR Doc. 2016-06610 Filed 3-21-16; 11:15 am]

BILLING CODE 7710-12-P